DEPARTMENT OF TRANSPORTATION

Federal Highway Administration

Environmental Impact Statement; Davis County, UT

AGENCY: Federal Highway Administration (FHWA), DOT.

ACTION: Notice of Intent.

SUMMARY: FWHA is issuing this notice to advise the public that an Environmental Impact Statement (EIS) will be prepared for proposed transportation improvements in Davis County, Utah.

FOR FURTHER INFORMATION CONTACT: Edward Woolford, Environmental Program Manager, Federal Highway Administration, 2520 West 4700 South, Suite 9A, Salt Lake City, Utah 84118, Telephone: (801) 955-3500, e-mail Edward.Woolford@dot.gov; or Charles Mace, Project Manager, Utah Department of Transportation, Region One Office, 166 West Southwell Street, Ogden, UT 84404-4194, Telephone: (801) 620-1685, e-mail cmace@utah.gov.

SUPPLEMENTARY INFORMATION: FWHA, in cooperation with the Utah Department of Transportation (UDOT), will prepare an EIS on a proposal to address current and projected traffic demand on 1800 North (SR-37) in the cities of Clinton and Sunset in Davis County, Utah. The proposed project area extends from 2000 West to I-15 along 1800 North, a distance of approximately 2 miles. Transportation improvements in this area are needed to address current and projected 2040 traffic demand along the existing two-lane 1800 North corridor, provide better east-west access, and improve safety.

The FHWA will consider a reasonable range of alternatives that meet the project purpose and need and are based on agency and public input. These alternatives include: (1) Taking no action; (2) using alternate travel modes; (3) upgrading and adding lanes to the existing roadway network, including 1800 North; (4) a grade separation at the Union Pacific Railroad crossing on 1800 North; (5) a new interchange on I-15 at 1800 North; (6) improving adjacent interchanges on I-15; (7) combinations of any of the above; and (8) other feasible alternatives identified during the scoping process.

A Coordination Plan is being prepared to define the agency and public participation procedure for the environmental review process. The plan will outline how agencies and the public will provide input during the scoping process, the development of the purpose and need, and alternatives development.

Letters describing the proposed action and soliciting comments will be sent to appropriate Federal, state, and local agencies, as well as to Native American tribes, and to private organizations and citizens who have previously expressed, or who are known to have, an interest in this proposal. These letters will invite agencies, tribes, and the public to participate in scoping meetings at locations and dates to be determined.

Public meetings will be held to allow the public, as well as Federal, state, and local agencies, and tribes, to provide comments on the purpose and need for the project, potential alternatives, and social, economic, and environmental issues of concern.

In addition, a public hearing will be held following the release of the draft EIS. Public notice advertisements and direct mailings will notify interested parties of the time and place of the public meetings and the public hearing.

To ensure that the full range of issues related to this proposed action is addressed and all significant issues are identified, comments and suggestions are invited from all interested parties. Comments or questions concerning this proposed action and the EIS should be directed to FHWA or UDOT at the addresses provided above.

(Catalog of Federal Domestic Assistance Program Number 20-205, Highway Planning and Construction. The regulations implementing Executive Order 12372 regarding intergovernmental consultation on Federal programs and activities apply to this program.)

James Christian,
Salt Lake City, Utah.

[FR Doc. 2010-25606 Filed 10-8-10; 8:45 am]

BILLING CODE 4910-22-P